DEPARTMENT OF COMMERCE

International Trade Administration

[C-122-862]

Certain Uncoated Groundwood Paper From Canada: Postponement of Preliminary Determination in the Countervailing Duty Investigation

AGENCY: Enforcement and Compliance, International Trade Administration, Department of Commerce.

DATES: Applicable October 19, 2017.

FOR FURTHER INFORMATION CONTACT: Whitley Herndon at (202) 482-6274, AD/CVD Operations, Enforcement and Compliance, International Trade Administration, U.S. Department of Commerce, 1401 Constitution Avenue NW., Washington, DC 20230.

SUPPLEMENTARY INFORMATION:

Background

On August 29, 2017, the Department of Commerce (Department) initiated a countervailing duty (CVD) investigation on certain uncoated groundwood paper from Canada.¹ Currently, the preliminary determination in this investigation is due no later than November 2, 2017.

¹ See Certain Uncoated Groundwood Paper from Canada: Initiation of Countervailing Duty Investigation, 82 FR 41603 (September 1, 2017).

Postponement of Preliminary Determination

Section 703(b)(1) of the Tariff Act of 1930, as amended (the Act), requires the Department to issue the preliminary determination in a CVD investigation within 65 days after the date on which the Department initiated the investigation. However, section 703(c)(1) of the Act permits the Department to postpone the preliminary determination until no later than 130 days after the date on which the Department initiated the investigation if: (A) The petitioner ² makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request.

² In this investigation, the petitioner is North Pacific Paper Company.

On September 21, 2017, the petitioner submitted a timely request that we postpone the CVD preliminary determination. In its request, the petitioner cited the need for the Department to have sufficient time to thoroughly investigate each of the alleged subsidies, including by issuing any supplemental questionnaires.³ In accordance with 19 CFR 351.205(e), the petitioner has stated the reasons for requesting a postponement of the preliminary determination, and the Department finds no compelling reason to deny the request. Therefore, pursuant to section 703(c)(1)(A) of the Act, we are extending the due date for the preliminary determination to no later than 130 days after the date on which this investigation was initiated, i.e., to January 8, 2018.⁴ Pursuant to section 705(a)(1) of the Act and 19 CFR 351.210(b)(1), the deadline for the final determination will continue to be 75 days after the date of the preliminary determination.

³ See letter from the petitioner, “Certain Uncoated Groundwood Paper from Canada/Petitioner's Request for Postponement of CVD Preliminary Determination and Extension of New Subsidy Allegations Deadline,” dated September 21, 2017.

⁴ The actual deadline is January 6, 2018, which is a Saturday. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: October 13, 2017.
Gary Taverman,
Deputy Assistant Secretary for Antidumping and Countervailing Duty Operations, performing the non-exclusive functions and duties of the Assistant Secretary for Enforcement and Compliance.

[FR Doc. 2017-22686 Filed 10-18-17; 8:45 am]

BILLING CODE 3510-DS-P